GULF COAST ECOSYSTEM RESTORATION COUNCIL

Notice of Proposed Subaward Under a Council-Selected Restoration Component Award

AGENCY: Gulf Coast Ecosystem Restoration Council.

ACTION: Notice.

SUMMARY: The Gulf Coast Ecosystem Restoration Council (Council) publishes notice of a proposed subaward from the National Oceanic and Atmospheric Administration National Centers for Coastal Ocean Science (NOAA) to the Gulf of Mexico Alliance (GOMA), a nonprofit organization, for the purpose of supporting the Council Monitoring and Assessment Program (CMAP). The Council and NOAA have entered an interagency agreement for NOAA to carry out CMAP, as approved in the Council's Initial Funded Priorities List.

FOR FURTHER INFORMATION CONTACT: Please send questions by email to raams_pgmsupport@restorethegulf.gov.

SUPPLEMENTARY INFORMATION: Section 1321(t)(2)(E)(ii)(III) of the RESTORE Act (33 U.S.C. 1321(t) and note) and Treasury's implementing regulation at 31 CFR 34.401(b) require that, for purposes of awards made under the Council-Selected Restoration Component, a State or Federal award recipient may make a grant or subaward to or enter into a cooperative agreement with a nongovernmental entity that equals or exceeds 10 percent of the total amount of the award provided to the State or Federal award recipient only if certain notice requirements are met. Specifically, at least 30 days before the State or Federal award recipient enters into such an agreement, the Council must publish in the Federal Register and deliver to specified Congressional Committees the name of the recipient and subrecipient; a brief description of the activity, including its purpose; and the amount of the award. This notice accomplishes the Federal Register publication requirement.

Description of Proposed Action

As specified in the Initial Funded Priorities List, which is available on the Council's Web site at https://www.restorethegulf.gov/council-selected-restoration-component/funded-priorities-list, RESTORE Act funds will support the Council Monitoring and Assessment Program (CMAP). Administered jointly by NOAA and the Department of the Interior's United States Geological Survey (USGS), CMAP will build the foundational components for Gulf region-wide monitoring in order to measure impacts of investments in restoration. Through collaboration with the Gulf States, federal and local partners, academia, non-governmental/non-profit organizations, and industry, the program will use a Monitoring Community of Practice coordinated by the Gulf of Mexico Alliance to leverage existing resources, capacities, and expertise and build on existing monitoring programs. These existing programs will be coordinated into a network, to provide efficiency in monitoring and collaborative cross-program review of performance with other Gulf ecosystem recovery efforts.

The program will: (1) Create an inventory of the existing monitoring programs, data, protocols and standards; (2) determine the minimum monitoring elements needed to evaluate the performance of restoration projects; (3) evaluate monitoring program suitability; (4) combine data from the suitable existing programs into searchable databases for Council use; (5) examine the inventory to determine what data are missing (i.e. identify information gaps) that would be required for the RESTORE Council; (6) document existing baseline assessments of habitat and water quality conditions; and (7) provide recommendations to the Council to supplement and refine the existing monitoring programs to fill-in the information gaps where possible.

Will D. Spoon,
Program Analyst, Gulf Coast Ecosystem Restoration Council.

[FR Doc. 2017-04937 Filed 3-13-17; 8:45 am]

BILLING CODE 6560-58-P